DEPARTMENT OF THE INTERIOR

Bureau of Land Management

[OR-014-1610-PG; 01-0139]

Klamath Provisional Advisory Committee Meeting

AGENCY: Bureau of Land Management, Klamath Falls Resource Area, Interior.

ACTION: Meeting notice for the Klamath Provisional Advisory Committee.

SUMMARY: The Klamath Provisional Advisory Committee (PAC) will meet at the Bureau of Land Management, Redding Field Office, 355 Hemsted, Redding, CA 96002, on Thursday, April 5, 2001 from 12 Noon to 5 PM, and on April 6, 2001 from 8 AM to 3 PM. Among the topics to be discussed are Federal Energy Regulatory Commission relicensing of PacifiCorp facilities along the Klamath River and Forest reports on National Fire Planning. The entire meeting is open to the public. Information to be distributed to the Committee members is requested 10 days prior to the start of the meeting. Public comment is scheduled for 4:30 PM to 5 PM on Thursday April 5, 2001.

FOR FURTHER INFORMATION CONTACT: Additional information concerning the Klamath PAC may be obtained from Teresa Raml, Field Manager, Klamath Falls Resource Area, 2795 Anderson Ave., Building 25, Klamath Falls, Oregon 97603, Phone Number 541-883-6916, FAX 541-884-2097, or e-mail traml@or.blm.gov.

Dated: March 21, 2001.
Melvin D. Crockett,
Acting Field Manager.

[FR Doc. 01-8110 Filed 3-30-01; 8:45 am]

BILLING CODE 4310-33-P